DEPARTMENT OF THE TREASURY

Office of Thrift Supervision

[AC-02: OTS Nos. H-3828 and 17934]

SBU Bank, Utica, NY, and Partners Trust Financial Group, Inc., Utica, NY; Approval of Conversion Application

Notice is hereby given that on May 7, 2004, the Assistant Managing Director, Examinations and Supervision—Operations, Office of Thrift Supervision (“OTS”), or her designee, acting pursuant to delegated authority, approved the application of Partners Trust, MHC and SBU Bank, both of Utica, New York, to convert to the stock form of organization. Copies of the application are available for inspection by appointment (phone number: 202-906-5922 or e-mail: Public.Info@OTS.Treas.gov) at the Public Reading Room, OTS, 1700 G Street, NW., Washington, DC 20552, and OTS Northeast Regional Office, 10 Exchange Place, 18th Floor, Jersey City, New Jersey 07302.

Dated: May 17, 2004.
By the Office of Thrift Supervision.
Nadine Y. Washington,
Corporate Secretary.

[FR Doc. 04-11455 Filed 5-19-04; 8:45 am]

BILLING CODE 6720-01-M